MILLENNIUM CHALLENGE CORPORATION

[MCC FR 19-02]

Notice of Open Meeting

AGENCY: Millennium Challenge Corporation.

ACTION: Notice.

SUMMARY: In accordance with the requirements of the Federal Advisory Committee Act, the Millennium Challenge Corporation (MCC) Economic Advisory Council was established as a discretionary advisory committee on October 5, 2018. The Economic Advisory Council serves MCC in a solely advisory capacity and provides provide advice and guidance to MCC economists, evaluators, leadership of the Department of Policy and Evaluation, and senior MCC leadership regarding relevant trends in development economics, applied economic and evaluation methods, poverty analytics, as well as modeling, measuring, and evaluating development interventions. In doing so, an overarching purpose of the Economic Advisory Committee will be to sharpen MCC's analytical methods and capacity in support of continuing development effectiveness. It will also serve as a sounding board and reference group for assessing and advising on strategic policy innovations and methodological directions in MCC.

DATES: Monday, April 15, 2019, from 9:00 a.m.-3:00 p.m. EST which includes a working lunch.

ADDRESSES: The meeting will be held at the Millennium Challenge Corporation, 1099 14th St. NW, Suite 700, Washington, DC 20005.

FOR FURTHER INFORMATION CONTACT: Brian Epley, 202.772.6515 MCCEACouncil@mcc.gov or visit www.mcc.gov/about/org-unit/economic-advisory-council.

SUPPLEMENTARY INFORMATION:

Agenda. During the inaugural meeting of the Economic Advisory Council, members will be provided an overview of MCC's work and the context and function of the Economic Advisory Council within MCC's mission, including consideration of the bylaws for the Economic Advisory Council. The Economic Advisory Council will also discuss issues related to MCC's core functions, including the following topics: (i) Poverty Reduction through Economic Growth: Reinforcing MCC's Core Mission; (ii) Mobilizing Private Finance for Development: What works and how can MCC contribute?; and (iii) Identifying analytic approaches to MCC's Regional Compact Development. In addition, a guest speaker will discuss Cost-Benefit Analysis and Development Impact.

Public Participation: The meeting will be open to the public. Members of the public may file written statement(s) before or after the meeting. If you plan to attend, please submit your name and affiliation no later than Thursday, April 11, 2019 to MCCEACouncil@mcc.gov to be placed on an attendee list.

Dated: March 19, 2019.
Jeanne M. Hauch,
VP/General Counsel and Corporate Secretary.

[FR Doc. 2019-05672 Filed 3-22-19; 8:45 am]

BILLING CODE 9211-03-P